DEPARTMENT OF COMMERCE

International Trade Administration

[A-570-886, A-557-813, A-549-821]

Polyethylene Retail Carrier Bags From the People's Republic of China, Malaysia, and Thailand: Continuation of Antidumping Duty Orders

AGENCY: Import Administration, International Trade Administration, Department of Commerce.

SUMMARY: As a result of the determinations by the Department of Commerce (Department) and the International Trade Commission (ITC) that revocation of the antidumping duty orders on polyethylene retail carrier bags (PRCBs) from the People's Republic of China (PRC), Malaysia, and Thailand would likely lead to a continuation or recurrence of dumping and material injury to an industry in the United States, the Department is publishing a notice of continuation of the antidumping duty orders.

DATES: Effective Date: July 7, 2010.

FOR FURTHER INFORMATION CONTACT: Dustin Ross or Minoo Hatten, AD/CVD Operations, Office 5, Import Administration, International Trade Administration, U.S. Department of Commerce, 14th Street and Constitution Avenue, NW., Washington, DC 20230; telephone: (202) 482-0747 or (202) 482-1690, respectively.

SUPPLEMENTARY INFORMATION:

Background

On July 1, 2009, the Department initiated and the ITC instituted sunset reviews of the antidumping duty orders on PRCBs from the PRC, Malaysia, and Thailand ¹ pursuant to section 751(c) of the Tariff Act of 1930, as amended (the Act). See Initiation of Five-year (“Sunset”) Review, 74 FR 31412 (July 1, 2009); see also Polyethylene Retail Carrier Bags From China, Malaysia, and Thailand, 74 FR 31750 (July 2, 2009).

¹ On August 9, 2004, the Department published the following antidumping duty orders: Antidumping Duty Order: Polyethylene Retail Carrier Bags From the People's Republic of China, 69 FR 48201 (August 9, 2004); Antidumping Duty Order: Polyethylene Retail Carrier Bags From Malaysia, 69 FR 48203 (August 9, 2004); Antidumping Duty Order: Polyethylene Retail Carrier Bags From Thailand, 69 FR 48204 (August 9, 2004).

As a result of these sunset reviews, the Department determined that revocation of the antidumping duty orders on PRCBs from the PRC, Malaysia, and Thailand would be likely to lead to continuation or recurrence of dumping and notified the ITC of the magnitude of the margins likely to prevail should the orders be revoked. See Polyethylene Retail Carrier Bags From the People's Republic of China, Thailand, and Malaysia: Final Results of the Expedited Sunset Reviews of the Antidumping Duty Orders, 74 FR 53470 (October 19, 2009).

On June 8, 2010, pursuant to section 752(a) of the Act, the ITC determined that revocation of the antidumping duty orders on PRCBs from the PRC, Malaysia, and Thailand would likely lead to continuation or recurrence of material injury to an industry in the United States within a reasonably foreseeable time. See Polyethylene Retail Carrier Bags From China, Malaysia, and Thailand; Determinations, 75 FR 36679 (June 28, 2010), and ITC Publication 4160 (June 2010) entitled Polyethylene Retail Carrier Bags from China, Malaysia, and Thailand: Inv. Nos. 731-TA-1043-1045 (Review).

Scopes of the Orders

The merchandise subject to the antidumping duty orders is PRCBs which may be referred to as t-shirt sacks, merchandise bags, grocery bags, or checkout bags. The subject merchandise is defined as nonsealable sacks and bags with handles (including drawstrings), without zippers or integral extruded closures, with or without gussets, with or without printing, of polyethylene film having a thickness no greater than 0.035 inch (0.889 mm) and no less than 0.00035 inch (0.00889 mm), and with no length or width shorter than 6 inches (15.24 cm) or longer than 40 inches (101.6 cm). The depth of the bag may be shorter than 6 inches but not longer than 40 inches (101.6 cm).

PRCBs are typically provided without any consumer packaging and free of charge by retail establishments, e.g., grocery, drug, convenience, department, specialty retail, discount stores, and restaurants, to their customers to package and carry their purchased products. The scopes of the orders exclude (1) polyethylene bags that are not printed with logos or store names and that are closeable with drawstrings made of polyethylene film and (2) polyethylene bags that are packed in consumer packaging with printing that refers to specific end-uses other than packaging and carrying merchandise from retail establishments, e.g., garbage bags, lawn bags, trash-can liners.

As a result of changes to the Harmonized Tariff Schedule of the United States (HTSUS), imports of the subject merchandise are currently classifiable under statistical category 3923.21.0085 of the HTSUS. Furthermore, although the HTSUS subheading is provided for convenience and customs purposes, the written descriptions of the scopes of the orders are dispositive.

Continuation of the Orders

As a result of the determinations by the Department and the ITC that revocation of these antidumping duty orders would likely lead to continuation or recurrence of dumping and material injury to an industry in the United States, pursuant to section 751(d)(2) of the Act, the Department hereby orders the continuation of the antidumping duty orders on PRCBs from the PRC, Malaysia, and Thailand.

U.S. Customs and Border Protection will continue to collect antidumping duty cash deposits at the rates in effect at the time of entry for all imports of subject merchandise. The effective date of continuation of these orders will be the date of publication in the Federal Register of this notice of continuation. Pursuant to section 751(c)(2) of the Act, the Department intends to initiate the next five-year review of these orders not later than 30 days prior to the fifth anniversary of the effective date of continuation.

These five-year sunset reviews and this notice are in accordance with section 751(c) of the Act and published pursuant to section 777(i)(1) of the Act.

Dated: June 30, 2010.
John M. Andersen,
Acting Deputy Assistant Secretary for Import Administration.

[FR Doc. 2010-16510 Filed 7-6-10; 8:45 am]

BILLING CODE 3510-DS-P